DEPARTMENT OF COMMERCE

U.S. Census Bureau

Proposed Information Collection; Comment Request; 2012 Economic Census Covering the Utilities, Transportation and Warehousing, Finance and Insurance, and Real Estate and Rental and Leasing Sectors

AGENCY: U.S. Census Bureau, Department of Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 7, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Steven Roman, U.S. Census Bureau, SSSD, HQ-8K049, 4600 Silver Hill Road, Washington, DC 20233-0001 (301-763-2824 or via the Internet at fcb@census.gov).

SUPPLEMENTARY INFORMATION:

I. Abstract

The economic census, conducted under authority of Title 13, United States code (U.S.C.), is the primary source of facts about the structure and functioning of the Nation's economy. Economic statistics serve as part of the framework for the national accounts and provide essential information for government, business, and the general public. Economic data are the Census Bureau's primary program commitment during nondecennial census years. The 2012 Economic Census covering Utilities, Transportation and Warehousing, Finance and Insurance, and Real Estate and Rental and Leasing sectors (as defined by the North American Industry Classification System (NAICS)) will measure the economic activity of more than 1.2 million establishments. However, approximately 12% of establishments will not be required to file separate reports because they will be included in consolidated company reports; for explanation see selection procedure for establishments of multi-establishment firms below. The information collected will produce basic statistics by kind of business on the number of establishments, revenue, payroll, and employment. It will also yield a variety of subject statistics, including revenue by product line, and other industry-specific measures. Primary strategies for reducing burden in Census Bureau economic data collections are to increase reporting through standardized questionnaires and broader electronic data collection methods.

II. Method of Collection

Mail Selection Procedures

Establishments in the Utilities, Transportation and Warehousing, Finance and Insurance, and Real Estate and Rental and Leasing sectors of the economic census will be selected from the Census Bureau's Business Register for a mail canvass. To be eligible for selection, an establishment will be required to satisfy the following conditions: (i) It must be classified in one of the Utilities, Transportation and Warehousing, Finance and Insurance, and Real Estate and Rental and Leasing sectors, (ii) it must be an active operating establishment of a multi-establishment firm (i.e., a firm that operates at more than one physical location), or it must be a single-establishment firm with payroll (i.e., a firm operating at only one physical location); and (iii) it must be located in one of the 50 states or the District of Columbia. Mail selection procedure will distinguish the following groups of establishments:

1. Establishments of Multi-Establishment Firms

Selection procedures will assign all eligible establishments of multi-establishment firms to the mail component of the potential respondent universe, except for those in selected industries in utilities, finance and insurance. In these selected industries, where revenue and certain other operating data are not easily attributable to individual establishments, division- or firm-level organizations are asked to report kind of business, payroll, and employment for several establishments, and other required data at a more aggregate level on a consolidated report form.

We estimate that the 2012 Economic Census mail canvasses for the Utilities, Transportation and Warehousing, Finance and Insurance, and Real Estate and Rental and Leasing sectors will include approximately 340,100 establishment and consolidated reports of multi-establishment firms.

2. Single-Establishment Firms With Payroll

As an initial step in the selection process, we will conduct a study of the potential respondent universe. This study will produce a set of industry-specific payroll cutoffs that we will use to distinguish large versus small single-establishment firms within each industry or kind of business. This payroll size distinction will affect selection as follows:

a. Large Single-Establishment Firms

All single-establishment firms having annualized payroll (from Federal administrative records) that equals or exceeds the cutoff for their industry will be included in the mail component of the potential respondent universe. We estimate that the 2012 Economic Census mail canvasses for the Utilities, Transportation and Warehousing, Finance and Insurance, and Real Estate and Rental and Leasing sectors will include approximately 307,600 large single-establishment firms.

b. Small Single-Establishment Firms

A sample of single-establishment firms having annualized payroll below the cutoff for their industry will be included in the mail component of the potential respondent universe. Sampling strata and corresponding probabilities of selection will be determined by a study of the potential respondent universe conducted shortly before the mail selection operations begin. We estimate that the 2012 Economic Census mail canvasses for the Utilities, Transportation and Warehousing, Finance and Insurance, and Real Estate and Rental and Leasing sectors will include approximately 62,400 small single-establishment firms selected in this sample.

All remaining single-establishment firms with payroll will be represented in the census by data from Federal Administrative records. Generally, we will not include these small employers in the census mail canvasses. However, administrative records sometimes have fundamental industry classification deficiencies that make them unsuitable for use in producing detailed industry statistics by geographic area. When we find such a deficiency, we will mail the firm a census classification form. We estimate that the 2012 Economic Census mail canvasses for the Utilities, Transportation and Warehousing, Finance and Insurance, and Real Estate and Rental and Leasing sectors will include approximately 219,800 small single-establishment firms that receive these forms.

III. Data

OMB Control Number: 0607-0931.

Form Number: The 31 standard forms, five classification forms, and three ownership or control fliers used to collect information from businesses in these sectors of the Economic Census are tailored to specific business practices and are too numerous to list separately in this notice.

Type of Review: Regular submission.

Affected Public: State or local governments, business, or other for profit or non-profit institutions or organizations.

Estimated Number of Respondents: 931,100

Estimated Time per Response: 0.982 hours

Estimated Total Annual Burden Hours: 914,000

Estimated Total Annual Cost: $26,515,140

Respondent's Obligation: Mandatory.

Legal Authority: Title 13 U.S.C. 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 28, 2010.
Glenna Mickelson,
Management Analyst, Office of the Chief Information Officer.

[FR Doc. 2010-33172 Filed 1-3-11; 8:45 am]

BILLING CODE 3510-07-P